DEPARTMENT OF HEALTH AND HUMAN SERVICES

Centers for Disease Control and Prevention

Notice of Public Meeting

AGENCY: The National Institute for Occupational Safety and Health (NIOSH) of the Centers for Disease Control and Prevention (CDC), Department of Health and Human Services (HHS).

SUMMARY: The National Institute for Occupational Safety and Health (NIOSH) of the Centers for Disease Control and Prevention (CDC) announces the availability of the following meeting and request for information:

Opportunity To Provide Input regarding a protocol for the following: (1) An industry wide research study to evaluate occupational exposure to flavorings in the flavorings and food production industries; (2) an industry wide study of engineering controls for protection against exposure to flavorings in the flavorings and food manufacturing industries; and (3) research concerning improved analytical laboratory methods for use in flavorings and food production exposure assessment.

Public Meeting Time and Date: 9 a.m.-4 p.m., April 2, 2008.

Place: NIOSH Hamilton Laboratory, 5555 Ridge Ave, Cincinnati, OH, 45213, telephone (513) 841-4366, fax (513) 841-4483.

Status: Meeting is open to the public, limited only by the space available (the room accommodates approximately 80 people). Persons who are not U.S. citizens will need approval to enter the NIOSH building and should contact Douglas Trout, MD, MHS, by March 5, 2008, to arrange for this. Those who cannot attend in person are encouraged to email comments. Deadline for e-mailed comments is April 16, 2008.

Background: According to 2002 U.S. Census data, there were approximately 21,000 employees working in flavoring production and about 1.5 million workers in food manufacturing nationwide. Employees have complex exposures in terms of the physical form of the agents (solid, liquid, and gas) and the number of different chemicals used. Severe respiratory health effects have been identified among workers after exposure to flavoring chemicals such as diacetyl (a component of butter flavoring). NIOSH investigators have begun a research effort evaluating analytical methods, exposure assessment, and engineering controls in the flavoring and food production industries. This research is intended to provide information necessary to reduce occupational exposures and prevent health effects among workers in these industries.

The meeting will consist of two parts: (1) External peer review of the research protocol. Peer reviewers external to CDC will be present to provide technical (scientific) review comments for the project officers to maximize the relevance and quality of the proposed research; and (2) Stakeholder meeting. The latter part of the meeting will be structured to hear stakeholder comments on important occupational safety and health issues related to this research.

Participants wishing to provide stakeholder comments may do so via E-mail or may request an opportunity to make a five minute presentation. Participants making a presentation at the meeting must submit their comments in writing at the time of the meeting. All participants (whether making a presentation or not) are requested to register for the free meeting by sending an E-mail to DTrout@cdc.gov with their name, affiliation, whether they are requesting time to speak briefly, and, if so, the general topic(s) on which they wish to speak. Participants wishing to speak are encouraged to register early. The public meeting is open to everyone, including all workers, representatives of professional societies, organized labor, employers, researchers, health professionals, government officials and elected officials. Broad participation is desired.

Contact Person For Technical Information: Dr. Douglas Trout, MD, MHS, Associate Director for Science, Division of Surveillance, Hazard Evaluations, and Field Studies, NIOSH, telephone (513) 841-4428. Comments and meeting registrations may also be E-mailed to DTrout@cdc.gov, or sent via mail to: Dr. Douglas Trout, NIOSH, 4676 Columbia Parkway, R-12, Cincinnati, OH 45226.

Dated: February 27, 2008.
James D. Seligman,
Chief Information Officer, Centers for Disease Control and Prevention.

[FR Doc. E8-4333 Filed 3-5-08; 8:45 am]

BILLING CODE 4163-19-P